SMALL BUSINESS ADMINISTRATION

[Disaster Declaration #10597 and #10598]

New Mexico Disaster Number NM-00004

AGENCY: U.S. Small Business Administration.

ACTION: Amendment 2.

SUMMARY: This is an amendment of the Presidential declaration of a major disaster for the State of New Mexico (FEMA-1659-DR), dated 8/30/2006.

Incident: Severe Storms and Flooding.

Incident Period: 7/26/2006 and continuing through 9/18/2006.

DATES: Effective Date: 9/18/2006.

Physical Loan Application Deadline Date: 10/30/2006.

EIDL Loan Application Deadline Date: 5/30/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of New Mexico, dated 8/30/2006, is hereby amended to establish the incident period for this disaster as beginning 7/26/2006 and continuing through 9/18/2006.

All other information in the original declaration remains unchanged.

(Catalog of Federal Domestic Assistance Numbers 59002 and 59008)

Roger B. Garland,
Acting Associate Administrator for Disaster Assistance.

[FR Doc. E6-15774 Filed 9-26-06; 8:45 am]

BILLING CODE 8025-01-P